DEPARTMENT OF JUSTICE

Antitrust Division

Notice Pursuant to the National Cooperative Research and Production Act of 1993—Wisconsin Certification Board, Inc.

Notice is hereby given that, on September 27, 2004, pursuant to section 6(a) of the National Cooperative Research and Production Act of 1993, 15 U.S.C. 4301 et seq. (“the Act”), Wisconsin Certification Board, Inc. (“WCB”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Wisconsin Certification Board, Inc., Wauwatosa, WI. The nature and scope of WCB's standards development activities are: To promote the quality and accessibility of substance use disorder counseling, clinical supervision services, and prevention services to the citizens of Wisconsin through: (1) Certifications for substance use disorder counselors; clinical supervisors, and prevention professionals; (2) the accreditation and endorsement of education and training activities; (3) the support for research; and (4) the support for advocacy.

Dorothy B. Fountain,
Deputy Director of Operations, Antitrust Division.

[FR Doc. 04-27065 Filed 12-9-04; 8:45 am]

BILLING CODE 4410-11-M